DEPARTMENT OF ENERGY

Western Area Power Administration

Central Arizona Project, Colorado River Storage Project, Loveland Area Projects, Pacific Northwest-Pacific Southwest Intertie Project, and Parker-Davis Project—Rate Order No. WAPA-187

AGENCY: Western Area Power Administration, DOE.

ACTION: Extension of formula rates for use under the WestConnect Point-to-Point Regional Transmission Service Participation Agreement (WestConnect PA).

SUMMARY: The Under Secretary of Energy extends the existing formula rates for non-firm point-to-point transmission service provided under the WestConnect PA and will submit them to the Federal Energy Regulatory Commission (FERC) for confirmation and approval on a final basis. The existing formula rates under Rate Schedule WC-8 are scheduled to expire on May 31, 2019. This rate extension makes no change to the existing formula rates.

DATES: The extended formula rates under Rate Schedule WC-8 will be placed into effect on an interim basis on June 1, 2019.

FOR FURTHER INFORMATION CONTACT: Mr. Thomas Hackett, Rates Manager, Colorado River Storage Project, (801) 524-5503 or email hackett@wapa.gov; Ms. Tina Ramsey, Rates Manager, Desert Southwest Region, (602) 605-2525 or email dswpwrmrk@wapa.gov; or Mrs. Sheila D. Cook, Rates Manager, Rocky Mountain Region, (970) 461-7211 or email scook@wapa.gov.

SUPPLEMENTARY INFORMATION: By Delegation Order No. 00-037.00B, effective November 19, 2016, the Secretary of Energy delegated: (1) The authority to develop power and transmission rates to the Western Area Power Administration's (WAPA) Administrator; (2) the authority to confirm, approve, and place such rates into effect on an interim basis to the Deputy Secretary of Energy; and (3) the authority to confirm, approve, and place into effect on a final basis, or to remand or to disapprove such rates, to FERC. In Delegation Order No. 00-002.00Q, effective November 1, 2018, the Secretary of Energy also delegated to the Under Secretary of Energy the authority to confirm, approve, and place into effect on an interim basis power and transmission rates for WAPA.

Following DOE's review of WAPA's proposal, I hereby approve Rate Order No. WAPA-187 on an interim basis, extending existing Rate Schedule WC-8 through May 31, 2024. Rate Order No. WAPA-187 will be submitted to FERC for confirmation and approval on a final basis.

Dated: April 17, 2019.
Mark W. Menezes,
Under Secretary of Energy.

DEPARTMENT OF ENERGY

DEPUTY SECRETARY

In the Matter of:

Western Area Power Administration

Extension of

Loveland Area Projects

Colorado River Storage Project

Pacific Northwest-Pacific Southwest Intertie Project

Central Arizona Project

Parker-Davis Project Transmission Service

Formula Rates

Rate Order No. WAPA-187

ORDER CONFIRMING, APPROVING, AND PLACING THE WESTERN AREA POWER ADMINISTRATION'S TRANSMISSION SERVICE FORMULA RATES FOR USE UNDER THE WESTCONNECT POINT-TO-POINT REGIONAL TRANSMISSION SERVICE PARTICIPATION AGREEMENT INTO EFFECT ON AN INTERIM BASIS

The transmission service formula rates set forth in this Rate Order are established in accordance with Section 302 of the Department of Energy (DOE) Organization Act (42 U.S.C. 7152). This Act transferred to and vested in the Secretary of Energy the power marketing functions of the Secretary of the Department of the Interior and the Bureau of Reclamation under the Reclamation Act of 1902 (ch. 1093, 32 Stat. 388), as amended and supplemented by subsequent laws, particularly section 9(c) of the Reclamation Project Act of 1939 (43 U.S.C. 485h(c)) and section 5 of the Flood Control Act of 1944 (16 U.S.C. 825s); and other acts that specifically apply to the projects involved.

By Delegation Order No. 00-037.00B, effective November 19, 2016, the Secretary of Energy delegated: (1) The authority to develop power and transmission rates to the Western Area Power Administration's (WAPA) Administrator; (2) the authority to confirm, approve, and place such rates into effect on an interim basis to the Deputy Secretary of Energy; ¹ and (3) the authority to confirm, approve, and place into effect on a final basis, or to remand or to disapprove such rates, to the Federal Energy Regulatory Commission (FERC). This extension is issued under the Delegation Order and DOE rate extension procedures found at 10 CFR 903.23(a).

¹ In Delegation Order No. 00-002.00Q, effective November 1, 2018, the Secretary of Energy also delegated to the Under Secretary of Energy the authority to confirm, approve, and place into effect on an interim basis power and transmission rates for WAPA.

BACKGROUND

On December 15, 2014, FERC approved Rate Schedule WC-8 under Rate Order No. WAPA-163 ² for a five-year period through May 31, 2019. This schedule applies to WestConnect Regional, Non-Firm, Point-to-Point Transmission Service that uses one or more of the following WAPA transmission projects: Central Arizona Project, Colorado River Storage Project, Loveland Area Projects, Pacific Northwest-Pacific Southwest Intertie Project, and Parker-Davis Project. In accordance with 10 CFR 903.23(a), WAPA is extending the existing formula rates under Rate Schedule WC-8 for the period of June 1, 2019, through May 31, 2024. This rate extension makes no change to the existing formula rates.

² Order Confirming and Approving Rate Schedule on a Final Basis, FERC Docket No. EF14-8-000, 149 FERC ¶62,196 (2014).

DISCUSSION

In accordance with 10 CFR 903.23(a), WAPA filed a notice in the Federal Register on March 18, 2019, proposing to extend Rate Schedule WC-8 under Rate Order No. WAPA-187 (84 FR 9771). WAPA determined it was not necessary to hold public information or public comment forums on the proposed formula rate extension, but provided a 14-day consultation and comment period to give the public an opportunity to comment on the proposed extension. The consultation and comment period ended on April 1, 2019, and WAPA received no comments on the proposed formula rate extension.

ORDER

In view of the above and under the authority delegated to me, I hereby extend, on an interim basis, WAPA's existing formula rates under Rate Schedule WC-8, for use under WestConnect's Point-to-Point Regional Transmission Service Participation Agreement through May 31, 2024. This rate schedule shall remain in effect on an interim basis pending FERC's confirmation and approval of this extension, or substitute rates, on a final basis.

Dated: April 17, 2019.

Mark W. Menezes,

Under Secretary of Energy.

[FR Doc. 2019-08277 Filed 4-23-19; 8:45 am]

BILLING CODE 6450-01-P